DEPARTMENT OF COMMERCE

International Trade Administration

[A-351-503, A-122-503, A-570-502]

Certain Iron Construction Castings From Brazil, Canada, and the People's Republic of China: Final Results of the Expedited Sunset Reviews of the Antidumping Duty Orders

AGENCY: Import Administration, International Trade Administration, Department of Commerce.

SUMMARY: On May 3, 2010, the Department of Commerce (the Department) initiated the third sunset reviews of the antidumping duty orders on certain iron construction castings from Brazil, Canada, and the People's Republic of China (PRC), pursuant to section 751(c) of the Tariff Act of 1930, as amended (the Act). See Initiation of Five-year (“Sunset”) Review, 75 FR 23240 (May 3, 2010) (Notice of Initiation). The Department has conducted expedited (120-day) sunset reviews of these orders. As a result of these sunset reviews, the Department finds that revocation of the antidumping duty orders would be likely to lead to continuation or recurrence of dumping as indicated in the “Final Results of Reviews” section of this notice.

EFFECTIVE DATE: September 8, 2010.

FOR FURTHER INFORMATION: Dustin Ross or Minoo Hatten, AD/CVD Operations, Office 5, Import Administration, International Trade Administration, U.S. Department of Commerce, 14th Street and Constitution Avenue, NW, Washington, DC 20230; telephone: (202) 482-0747 or (202) 482-1690, respectively.

SUPPLEMENTARY INFORMATION:

Background

On May 3, 2010, the Department published the notice of initiation of the sunset reviews of the antidumping duty orders¹ on certain iron construction castings from Brazil, Canada, and the PRC pursuant to section 751(c) of the Act. See Notice of Initiation.

The Department received notices of intent to participate in these sunset reviews from the domestic interested parties, East Jordan Iron Works, Inc., Neenah Foundry Company, and U.S. Foundry & Manufacturing Co. (collectively, the petitioners) within the 15-day period specified in 19 CFR 351.218(d)(1)(i). The domestic interested parties claimed interested-party status under section 771(9)(C) of the Act as producers of a domestic like product in the United States.

¹ Antidumping Duty Order; Certain Iron Construction Castings From Canada, 51 FR 7600 (March 5, 1986), Antidumping Duty Order; Iron Construction Castings From Brazil, 51 FR 17220 (May 9, 1986), and Antidumping Duty Order; Iron Construction Castings From the People's Republic of China (the PRC), 51 FR 17222 (May 9, 1986).

The Department received complete substantive responses to the Notice of Initiation from the domestic interested parties within the 30-day period specified in 19 CFR 351.218(d)(3)(i). The Department received no substantive responses from any respondent interested parties. In accordance with section 751(c)(3)(B) of the Act and 19 CFR 351.218(e)(1)(ii)(C)(2), the Department is conducting expedited (120-day) sunset reviews of the antidumping duty orders on certain iron construction castings from Brazil, Canada, and the PRC.

Scope of the Orders

Brazil

The merchandise covered by the order consists of certain iron construction castings from Brazil, limited to manhole covers, rings, and frames, catch basin grates and frames, cleanout covers and frames used for drainage or access purposes for public utility, water and sanitary systems, classifiable as heavy castings under Harmonized Tariff Schedule (HTS) item number 7325.10.0010; and to valve, service, and meter boxes which are placed below ground to encase water, gas, or other valves, or water and gas meters, classifiable as light castings under HTS item number 7325.10.0050. The HTS item numbers are provided for convenience and customs purposes only. The written product description remains dispositive.

Canada

The merchandise covered by the order consists of certain iron construction castings from Canada, limited to manhole covers, rings,and frames, catch basin grates and frames, clean-out covers, and frames used for drainage or access purposes for public utility, water and sanitary systems, classifiable as heavy castings under HTS item number 7325.10.0010. The HTS item number is provided for convenience and customs purposes only. The written product description remains dispositive.

PRC

The products covered by the order are certain iron construction castings from the PRC, limited to manhole covers, rings and frames, catch basin grates and frames, cleanout covers and drains used for drainage or access purposes for public utilities, water and sanitary systems; and valve, service, and meter boxes which are placed below ground to encase water, gas, or other valves, or water or gas meters. These articles must be of cast iron, not alloyed, and not malleable. This merchandise is currently classifiable under the HTS item numbers 7325.10.0010 and 7325.10.0050. The HTS item numbers are provided for convenience and customs purposes. The written product description remains dispositive.

Analysis of Comments Received

All issues raised in these reviews are addressed in the “Issues and Decision Memorandum for the Expedited Sunset Reviews of the Antidumping Duty Orders on Certain Iron Construction Castings From Brazil, Canada, and the People's Republic of China” from Acting Deputy Assistant Secretary for Antidumping and Countervailing Duty Operations Edward C. Yang to Deputy Assistant Secretary for Import Administration Ronald K. Lorentzen dated concurrently with this notice (Issues and Decision Memo), which is hereby adopted by this notice. The issues discussed in the Issues and Decision Memo include the likelihood of continuation or recurrence of dumping and the magnitude of the margin likely to prevail if the orders were revoked. Parties can find a complete discussion of all issues raised in these reviews and the corresponding recommendations in this public memorandum which is on file in the Central Records Unit, room 1117 of the main Department of Commerce building.

In addition, a complete version of the Issues and Decision Memo can be accessed directly on the Web at http://ia.ita.doc.gov/frn. The paper copy and electronic version of the Issues and Decision Memo are identical in content.

Final Results of Reviews

The Department determines that revocation of the antidumping duty orders on certain iron construction castings from Brazil, Canada, and the PRC would be likely to lead to continuation or recurrence of dumping at the following weighted-average percentage margins:

Country | Company | Weighted-Average Margin (Percent)
Brazil | Fundicao Aldebara Ltda. | 58.74
| Sociedade de Metalurgia E Processos, Ltda. | 16.61
| Usina Siderurgica Paraensa S.A. | 5.95
| All other manufacturers/producers/exporters | 26.16
Canada | Mueller Canada, Inc. | 9.80
| LaPerle Foundry, Ltd. | 4.40
| Bibby Ste. Croix Foundries, Ltd. | 8.60
| All Others | 7.50
PRC | PRC-wide Rate | 25.52

Notification Regarding APO

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

The Department is issuing and publishing the final results and notice in accordance with sections 751(c), 752(c), and 777(i)(1) of the Act.

Dated: August 31, 2010.
Ronald K. Lorentzen,
Deputy Assistant Secretary for Import Administration.

[FR Doc. 2010-22373 Filed 9-7-10; 8:45 am]

BILLING CODE 3510-DS-S